DEPARTMENT OF HOMELAND SECURITY

U.S. Citizenship and Immigration Services

Agency Information Collection Activities: Form N-600K, Extension of a Currently Approved Information Collection; Comment Request

ACTION: 30-Day Notice of Information Collection Under Review: Form N-600K; Application for Citizenship and Issuance of Certificate under Section 322.

The Department of Homeland Security, U.S. Citizenship and Immigration Services (USCIS) has submitted the following information collection request to the Office of Management and Budget (OMB) for review and clearance in accordance with the Paperwork Reduction Act of 1995. The information collection was previously published in the Federal Register on June 29, 2011, at 76 FR 38197, allowing for a 60-day public comment period for a proposed revision to the information collection. However, USCIS is postponing deployment of the revisions to this information collection, and therefore requests to extend the current edition of this information collection without revision at this time. USCIS received one comment on the proposed revisions to this information collection. USCIS acknowledges receipt of the comment in the supporting statement (item 8) posted at http://www.regulations.gov and will further address the comment regarding the proposed revisions when USCIS revises the information collection.

The purpose of this notice is to allow an additional 30 days for public comments. Comments are encouraged and will be accepted until October 19, 2011. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Products Division, Office of the Executive Secretariat, 20 Massachusetts Avenue NW., Washington, DC 20529-2020. Comments may also be submitted to DHS via facsimile to 202-272-8352 or via e-mail at USCISFRComment@dhs.gov, and OMB USCIS Desk Officer via facsimile at 202-395-5806 or via oira_submission@omb.eop.gov. When submitting comments by e-mail please make sure to add OMB Control Number 1615-0087 in the subject box.

Written comments and suggestions from the public and affected agencies should address one or more of the following four points:

(1) Evaluate whether the proposed collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Application for Citizenship and Issuance of Certificate under Section 322.

(3) Agency form number, if any, and the applicable component of the Department of Homeland Security sponsoring the collection: Form N-600K; U.S. Citizenship and Immigration Services.

(4) Affected public who will be asked or required to respond, as well as a brief abstract: Primary: Individuals or Households. The data collected on this form is used by U.S. Citizenship and Immigration Services (USCIS) to determine eligibility for the requested immigration benefit of citizenship. The form serves the purpose of standardizing requests for the benefit, and will ensure that the basic information required to assess eligibility is provided by the applicants.

(5) An estimate of the total number of annual respondents and the amount of time estimated for an average respondent to respond: 2,950 responses at 1 hour and 35 minutes (1.583 hours) per response.

(6) An estimate of the total public burden (in hours) associated with the collection: 4,670 annual burden hours.

If you have additional comments, suggestions, or need a copy of the proposed information collection instrument with instructions, or additional information, please visit the USCIS Web site at: http://uscis.gov/graphics/formsfee/forms/pra/index.htm.

If additional information is required contact: USCIS, Regulatory Products Division, 20 Massachusetts Avenue, NW., Washington, DC 20529-2020, telephone (202) 272-8377.

Dated: September 13, 2011.
Sunday Aigbe,
Chief, Regulatory Products Division, Office of the Executive Secretariat, U.S. Citizenship and Immigration Services, Department of Homeland Security.

[FR Doc. 2011-23861 Filed 9-16-11; 8:45 am]

BILLING CODE 4410-10-P